DEPARTMENT OF COMMERCE

National Oceanic and Atmospheric Administration

[I.D. 092903D]

Proposed Information Collection; Comment Request; Licensing of Private Land Remote-Sensing Space Systems

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 2, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Timothy Stryker at (301) 713-2024, ext 205, or e-mail Timothy.Stryker@noaa.gov.

SUPPLEMENTARY INFORMATION:

I. Abstract

NOAA has established requirements for the licensing of private operators of remote-sensing space systems. The information in applications and subsequent reports is needed to ensure compliance with the Land Remote-Sensing Policy Act of 1992 and with the national security and international obligations of the United States. The requirements are contained in 15 CFR Part 960.

II. Method of Collection

Applicants are asked to provide electronic copies of submissions.

III. Data

OMB Number: 0648-0174.

Form Number: None.

Type of Review: Regular submission.

Affected Public: Business or other for-profit organizations.

Estimated Number of Respondents: 13.

Estimated Time Per Response: 40 hours for a license application; 10 hours for a license amendment; 2 hours for a notification of a foreign agreement; 1 hour for an executive summary; 2 hours for a notification of the demise of a system or the decision to discontinue system operations; 2 hours for a notification of any operational deviation; 5 hours for submission of a data collection restriction plan; 3 hours for submission of an operation plan for restricting collection or dissemination of dat concerning Israeli territory; 3 hours for a data flow diagram; 1 hour for a drawing of satellite sub-systems; 2 hours for submission of spacecraft operational information when a satellite becomes operational; 2 hours for a notification of a disposition/orbital change or of planned purges of information; 3 hours for an operational quarterly report; 8 hours for an annual compliance audit; and 10 hours for an annual operational audit.

Estimated Total Annual Burden Hours: 314.

Estimated Total Annual Cost to Public: $1,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 26, 2003.
Gwellnar Banks,
Management Analyst, Office of the Chief Information Officer.

[FR Doc. 03-25143 Filed 10-2-03; 8:45 am]

BILLING CODE 3510-HR-S